FEDERAL COMMUNICATIONS COMMISSION

47 CFR Part 73

[GN Docket No. 12-268; MB Docket No. 16-306; DA 17-154]

Incentive Auction Task Force and Media Bureau Finalize Catalog of Reimbursement Expenses

AGENCY: Federal Communications Commission.

ACTION: Final action; requirements and procedures.

SUMMARY: In this document the Incentive Auction Task Force and the Media Bureau of the Federal Communications Commission (Commission) adopts: Updates to the categories of eligible equipment and services, as well as updated baseline costs, in the catalog of eligible reimbursement expenses (Catalog); an economic methodology for adjusting the Catalog's baseline costs annually such that they remain accurate, by using the Bureau of Labor Statistics' Producer Price Index, WPUFD4 series; and revisions to the online Reimbursement Form to incorporate the updates to the Catalog, which will be embedded in the Reimbursement Form, as well as other features, including checkboxes for entities to indicate if they are seeking upgrades or partial payment requests, which are designed to make it more user-friendly.

DATES: February 21, 2017.

ADDRESSES: Copies of any comments on the Paperwork Reduction Act information collection requirements contained herein should be submitted to Cathy Williams, Federal Communications Commission, 445 12th Street SW., Washington, DC 20554, or by email to PRA@fcc.gov and Cathy.Williams@fcc.gov.

FOR FURTHER INFORMATION CONTACT: Pamela Gallant, 202-418-0614, or Raphael Sznajder, 202-418-1648, of the Media Bureau, Video Division.

SUPPLEMENTARY INFORMATION: With the assistance of a third-party contractor, Widelity, Inc., and based on the record to date, the Media Bureau has developed, updated, and now adopted an updated catalog of eligible reimbursement expenses (Catalog) for reimbursement-eligible entities to use for reference during the post-incentive auction transition. The Catalog is not exhaustive, but rather a tool to facilitate the process for reimbursement-eligible entities to claim reimbursement on the Reimbursement Form. This Public Notice (available at: DA 17-154), adopts not only the proposed updated categories and prices for the reimbursement expenses listed, but also adopts an economic methodology to update the prices in the Catalog throughout the three-year reimbursement period so that they accurately reflect the current market for the equipment and services listed in the Catalog. The Catalog that the Incentive Auction Task Force and the Media Bureau adopt will be embedded in the on-line Reimbursement Form (FCC Form 2100, Schedule 399) which will be used by entities seeking reimbursement to file estimated costs and reimbursement claims for the costs they actually incur. The Reimbursement Form is a web-based electronic form containing previously approved information collections (under existing OMB control number 3060-1178). The Commission previously sought, and, on March 17, 2016, obtained OMB approval for the information collection requirements contained in the Reimbursement Form, which became effective on March 24, 2016, for a period of three years. (See Expanding the Economic and Innovation Opportunities of Spectrum Through Incentive Auctions, 81 FR 15649, Vol. 81, No. 57 (Mar. 24, 2016)). Because the Catalog will be embedded within the Reimbursement Form, available via the Commission's Licensing and Management System (LMS), we now resubmit the Reimbursement Form to the Office of Management and Budget (OMB) for approval under the Paperwork Reduction Act (PRA) of the incremental changes resulting from the Catalog's updates, as well as other minor modifications made to the Reimbursement Form that are designed to make it more user-friendly and assist filers in describing their claims. For example, we have added check boxes that allow entities to easily indicate if they are seeking optional equipment upgrades or requesting partial payment of particular expenses. The public will now have an opportunity to comment on these modifications to the data collections in the Reimbursement Form. This is a summary of the FCC's document GN Docket No. 12-268; MB Docket No. 16-306; DA 17-154 (released Feb. 9, 2017). The full text of this document is available for inspection and copying during normal business hours in the FCC Reference Center (Room CY-A257), 445 12th Street SW., Washington, DC 20554.

Federal Communications Commission.
Barbara A. Kreisman,
Chief, Video Division, Media Bureau.

[FR Doc. 2017-03174 Filed 2-17-17; 8:45 am]

BILLING CODE 6712-01-P